DEPARTMENT OF COMMERCE

International Trade Administration

[A-570-040]

Truck and Bus Tires From the People's Republic of China: Final Affirmative Determinations of Sales at Less Than Fair Value and Critical Circumstances

AGENCY: Enforcement and Compliance, International Trade Administration, Department of Commerce.

SUMMARY: The Department of Commerce (the Department) determines that imports of truck and bus tires from the People's Republic of China (the PRC) are being, or are likely to be, sold in the United States at less than fair value (LTFV). The period of investigation (POI) is July 1, 2015, through December 31, 2015. The final dumping margins of sales at LTFV are listed in the “Final Determination” section of this notice.

DATES: Effective January 27, 2017.

FOR FURTHER INFORMATION CONTACT: Yang Jin Chun or Andre Gziryan, AD/CVD Operations, Office I, Enforcement and Compliance, International Trade Administration, U.S. Department of Commerce, 1401 Constitution Avenue NW., Washington, DC 20230; telephone: (202) 482-5760 and (202) 482-2201, respectively.

SUPPLEMENTARY INFORMATION:

Background

The Department published the Preliminary Determinations and the Amended Preliminary Determination in the LTFV investigation of truck and bus tires from the PRC on September 6, 2016, and October 14, 2016, respectively.¹ For a complete description of the events that followed the Preliminary Determinations, see the Issues and Decision Memorandum dated concurrently with, and hereby adopted by, this notice.²

¹ See Truck and Bus Tires From the People's Republic of China: Preliminary Affirmative Determinations of Sales at Less Than Fair Value and Critical Circumstances, and Postponement of Final Determination, 81 FR 61186 (September 6, 2016) (Preliminary Determinations) and Truck and Bus Tires From the People's Republic of China: Amended Preliminary Affirmative Determination of Sales at Less Than Fair Value, 81 FR 71051 (October 14, 2016) (Amended Preliminary Determination).

² See the Memorandum from Associate Deputy Assistant Secretary Gary Taverman to Acting Assistant Secretary Ronald K. Lorentzen, “Truck and Bus Tires from the People's Republic of China: Issues and Decision Memorandum for the Final Affirmative Determinations of Sales at Less Than Fair Value and Critical Circumstances,” dated concurrently with and hereby adopted by this notice (Issues and Decision Memorandum).

Period of Investigation

The POI is July 1, 2015, through December 31, 2015.

Scope of the Investigation

The products covered by this investigation are truck and bus tires. For a full description of the scope of this investigation, see the “Scope of the Investigation” in Appendix I of this notice.

Scope Comments

Two interested parties submitted scope requests shortly before, and after, the Preliminary Determinations, after receiving permission from the Department to file their scope requests. The Department received comments concerning these requests and has addressed the comments in the Issues and Decision Memorandum. The scope in Appendix I reflects the final scope of the investigation.

Analysis of Comments Received

All issues raised in the case and rebuttal briefs that were submitted by parties in this investigation are addressed in the Issues and Decision Memorandum. A list of issues raised is attached to this notice as Appendix II. The Issues and Decision Memorandum is a public document and is made available to the public via Enforcement and Compliance's Antidumping and Countervailing Duty Centralized Electronic Service System (ACCESS). ACCESS is available to registered users at http://access.trade.gov and to all parties in the Department's Central Records Unit, Room B8024 of the main Department of Commerce building. In addition, a complete version of the Issues and Decision Memorandum can be accessed directly on the internet at http://enforcement.trade.gov/frn/.

Verification

As provided in section 782(i) of the Tariff Act of 1930, as amended (the Act), we verified the U.S. sales and factors of production information submitted by Prinx Chengshan (Shandong) Tire Co., Ltd. (PCT) in October 2016.³ We used standard verification procedures, including an examination of relevant accounting and production records, and original source documents provided by PCT.

³ See the Report, “Less-Than-Fair-Value Investigation of Truck and Bus Tires from the People's Republic of China: Verification of the Sales and Factors of Production Response of Prinx Chengshan (Shandong) Tire Co., Ltd.,” dated November 21, 2016 (Verification Report).

Changes to the Dumping Margin Calculations

Based on our analysis of the comments received and our findings at verification, we made certain changes to our dumping margin calculations.⁴

⁴ See Issues and Decision Memorandum for a discussion of these changes.

Affirmative Final Determination of Critical Circumstances

We preliminarily determined that critical circumstances exist for PCT, the non-selected separate rate respondents, and the PRC-wide entity.⁵ For the final determination, we continue to determine that critical circumstances exist for PCT, the non-selected separate rate respondents, and the PRC-wide entity.⁶

⁵ See Preliminary Determinations, 81 FR at 61187.

⁶ See Issues and Decision Memorandum at 6 and Comment 28.

Combination Rates

Consistent with Preliminary Determinations ⁷ and Policy Bulletin 05.1,⁸ the Department calculated combination rates for the respondents that are eligible for a separate rate in this investigation.

⁷ See Preliminary Determinations, 81 FR at 61187-91.

⁸ See Enforcement and Compliance's Policy Bulletin No. 05.1, regarding, “Separate-Rates Practice and Application of Combination Rates in Antidumping Investigations involving Non-Market Economy Countries,” dated April 5, 2005 (Policy Bulletin 05.1), available on the Department's Web site at http://enforcement.trade.gov/policy/bull05-1.pdf.

Final Determination

The Department determines that the following weighted-average dumping margins exist:

Exporter | Producer | Weighted average margin (percent)
Prinx Chengshan (Shandong) Tire Co., Ltd | Prinx Chengshan (Shandong) Tire Co., Ltd | 9.00
Actyon Tyre Resources Co., Limited | Chao Yang Long March Tyre Co., Ltd | 9.00
Actyon Tyre Resources Co., Limited | Shandong Haohua Tires Co., Ltd | 9.00
Actyon Tyre Resources Co., Limited | Shandong Longyue Rubber Co., Ltd | 9.00
Aosen Tire Co., Ltd | Qingdao Taifa Group Co., Ltd | 9.00
Aosen Tire Co., Ltd | Shandong Chuanghua Tire Co., Ltd | 9.00
Aosen Tire Co., Ltd | Shandong Hawk International Rubber Industry Co., Ltd | 9.00
Aosen Tire Co., Ltd | Shandong Hugerubber Co., Ltd | 9.00
Aosen Tire Co., Ltd | Shandong Yongsheng Rubber Group Co., Ltd | 9.00
Aosen Tire Co., Ltd | Shandong Zhentai Group Co., Ltd | 9.00
Beijing BOE Commerce Co., Ltd | China National Tyre & Rubber Guilin Co., Ltd | 9.00
Beijing BOE Commerce Co., Ltd | Shandong Hawk International Rubber Industry Co., Ltd | 9.00
Best Choice International Trade Co., Ltd | Aeolus Tyre Co., Ltd | 9.00
Best Choice International Trade Co., Ltd | Qingdao Yellow Sea Rubber Co., Ltd | 9.00
Best Choice International Trade Co., Ltd | Shan Dong Kaixuan Rubber Co., Ltd | 9.00
Best Choice International Trade Co., Ltd | Sichuan Kalevei Technology Co., Ltd | 9.00
Best Choice International Trade Co., Ltd | ZC Rubber Group Co., Ltd | 9.00
Bestyre International Industrial Limited | Chaoyang Long March Tyre Co., Ltd | 9.00
Bestyre International Industrial Limited | Chaoyang Long March Tyre New Co., Ltd | 9.00
BOE Commerce Co., Ltd | Aeolus Tyre Co., Ltd | 9.00
BOE Commerce Co., Ltd | China National Tyre & Rubber Guilin Co., Ltd | 9.00
BOE Commerce Co., Ltd | Shandong Anchi Tyres Co., Ltd | 9.00
BOE Commerce Co., Ltd | Shandong Hawk International Rubber Industry Co., Ltd | 9.00
BOE Commerce Co., Ltd | Shandong Hengyu Rubber Co., Ltd | 9.00
BOE Commerce Co., Ltd | Shandong Hengyu Science & Technology Co., Ltd | 9.00
BOE Commerce Co., Ltd | Shandong Jinyu Tyre Co., Ltd | 9.00
BOE Commerce Co., Ltd | Zhucheng Guoxin Rubber Co., Ltd | 9.00
Briway Tire Co., Ltd | Shandong Kaixuan Rubber Co., Ltd | 9.00
Briway Tire Co., Ltd | Shandong Province Sanli Tire Manufactured Co., Ltd | 9.00
Briway Tire Co., Ltd | Shandong Vheal Group Co., Ltd | 9.00
Briway Tire Co., Ltd | Shandong Wanda Boto Tyre Co., Ltd | 9.00
Briway Tire Co., Ltd | Shandong Yinbao Tyre Group Co., Ltd | 9.00
Briway Tire Co., Ltd | Shandong Yuelong Group | 9.00
Briway Tire Co., Ltd | Sichuan Tyre & Rubber Co., Ltd | 9.00
Briway Tire Co., Ltd | Weifang Shunfuchang Rubber and Plastic Products Co., Ltd | 9.00
Briway Tire Co., Ltd | Sichuan Kalevei Technology Co., Ltd | 9.00
Chonche Auto Double Happiness Tyre Corp. Ltd | Chonche Auto Double Happiness Tyre Corp. Ltd | 9.00
Chongqing Hankook Tire Co., Ltd | Chongqing Hankook Tire Co., Ltd | 9.00
Cooper Tire (China) Investment Co., Ltd | Qingdao Ge Rui Da Rubber Co., Ltd | 9.00
Daking Industrial Co., Limited | Shandong Huasheng Rubber Co., Ltd | 9.00
Fleming Limited | Qingdao Doublestar Tire Industrial Co., Ltd | 9.00
Fleming Limited | Qingdao Yellow Sea Rubber Co., Ltd | 9.00
Fleming Limited | Shandong Wanshine Tire Co., Ltd | 9.00
Fleming Limited | Shandong Yinbao Tyre Group Co., Ltd | 9.00
Giti Tire (Anhui) Company Ltd | Giti Tire (Anhui) Company Ltd | 9.00
Giti Tire (Anhui) Company Ltd | Giti Tire (Fujian) Company Ltd | 9.00
Giti Tire (Anhui) Company Ltd | Giti Tire (Yinchuan) Company Ltd | 9.00
Giti Tire (Fujian) Company Ltd | Giti Tire (Anhui) Company Ltd | 9.00
Giti Tire (Fujian) Company Ltd | Giti Tire (Fujian) Company Ltd | 9.00
Giti Tire (Fujian) Company Ltd | Giti Tire (Yinchuan) Company Ltd | 9.00
Giti Tire (Yinchuan) Company Ltd | Giti Tire (Anhui) Company Ltd | 9.00
Giti Tire (Yinchuan) Company Ltd | Giti Tire (Fujian) Company Ltd | 9.00
Giti Tire (Yinchuan) Company Ltd | Giti Tire (Yinchuan) Company Ltd | 9.00
Giti Tire Global Trading Pte. Ltd | Giti Tire (Anhui) Company Ltd | 9.00
Giti Tire Global Trading Pte. Ltd | Giti Tire (Fujian) Company Ltd | 9.00
Giti Tire Global Trading Pte. Ltd | Giti Tire (Yinchuan) Company Ltd | 9.00
Goodyear Dalian Tire Co., Ltd | Goodyear Dalian Tire Co., Ltd | 9.00
Hongkong Tiancheng Investment & Trading Co., Limited | Shandong Linglong Tyre Co., Ltd | 9.00
Hongtyre Group Co | Prinx Chengshan (Shandong) Tire Co., Ltd | 9.00
Hongtyre Group Co | Shandong Bayi Tyre Manufacture Co., Ltd | 9.00
Jiangsu General Science Technology Co., Ltd | Jiangsu General Science Technology Co., Ltd | 9.00
Jiangsu Hankook Tire Co., Ltd | Jiangsu Hankook Tire Co., Ltd | 9.00
Koryo International Industrial Limited | Chaoyang Long March Tyre Co., Ltd | 9.00
Koryo International Industrial Limited | Shandong Anchi Tyres Co., Ltd | 9.00
Koryo International Industrial Limited | Shandong Hugerubber Co., Ltd | 9.00
Koryo International Industrial Limited | Shandong Sangong Rubber Co., Ltd | 9.00
Koryo International Industrial Limited | Shandong Wanshine Tire Co., Ltd | 9.00
Koryo International Industrial Limited | Sichuan Tyre & Rubber Co., Ltd | 9.00
Kumho Tire Co., Inc | Nanjing Kumho Tire Co., Ltd | 9.00
Longkou Xinglong Tyre Co., Ltd | Longkou Xinglong Tyre Co., Ltd | 9.00
Maxon Int'l Co., Limited | Shandong Anchi Tyres Co., Ltd | 9.00
Maxon Int'l Co., Limited | Triangle Tyre Co., Ltd | 9.00
Megalith Industrial Group Co., Ltd | Ningxia Shenzhou Tire Co., Ltd | 9.00
Megalith Industrial Group Co., Ltd | Shaanxi Yanchang Petroleum Group Rubber Co., Ltd | 9.00
Megalith Industrial Group Co., Ltd | Shandong Hawk International Rubber Industry Co., Ltd | 9.00
Megalith Industrial Group Co., Ltd | Shandong Huasheng Rubber Co., Ltd | 9.00
Megalith Industrial Group Co., Ltd | Shandong Kaixuan Rubber Co., Ltd | 9.00
Megalith Industrial Group Co., Ltd | Sichuan Kalevei Technology Co., Ltd | 9.00
Megalith Industrial Group Co., Ltd | Xingyuan Tire Group Co., Ltd | 9.00
Michelin Asia-Pacific Export (HK) Limited | Michelin Shenyang Tire Co., Ltd | 9.00
Newland Tyre Int'l Limited | Shandong Hawk International Rubber Industry Co., Ltd | 9.00
Noble Manufacture Co., Ltd | Qingdao Hongchi Tyre Co., Ltd | 9.00
Philixx Tyres and Accessories Limited | Shandong Huasheng Rubber Co., Ltd | 9.00
Philixx Tyres and Accessories Limited | Xingyuan Tire Group Co., Ltd | 9.00
Philixx Tyres and Accessories Limited | Shandong Vheal Group Co., Ltd | 9.00
Q&J Industrial Group Co., Limited | Chaoyang Langma Co., Ltd | 9.00
Q&J Industrial Group Co., Limited | Qiangdao Huanghai Rubber Co., Ltd | 9.00
Q&J Industrial Group Co., Limited | Shandong Hongsheng Rubber Co., Ltd | 9.00
Q&J Industrial Group Co., Limited | Shandong Huasheng Rubber Co., Ltd | 9.00
Q&J Industrial Group Co., Limited | Shandong Xingyuan Group | 9.00
Q&J Industrial Group Co., Limited | Sichuan Kailiwei Technology Co., Ltd | 9.00
Qingdao Au-Shine Group Co., Ltd | Shandong Gulun Rubber Co., Ltd | 9.00
Qingdao Champion International Trading Co., Ltd | Shandong Cocrea Tyre Co., Ltd | 9.00
Qingdao Champion International Trading Co., Ltd | Shandong Huasheng Rubber Co., Ltd | 9.00
Qingdao Champion International Trading Co., Ltd | Zhucheng Sinoroad Rubber Co., Ltd | 9.00
Qingdao Fudong Tyre Co., Ltd | Qingdao Fudong Tyre Co., Ltd | 9.00
Qingdao Fudong Tyre Co., Ltd | Qingdao Xiyingmen Double Camel Tyre Co., Ltd | 9.00
Qingdao Fullrun Tyre Corp. Ltd | Aeolus Tyre Co., Ltd | 9.00
Qingdao Fullrun Tyre Corp. Ltd | Chaoyang Long March Tyre Co., Ltd | 9.00
Qingdao Fullrun Tyre Corp. Ltd | Chonche Auto Double Happiness Tyre Corp. Ltd | 9.00
Qingdao Fullrun Tyre Corp. Ltd | Double Coin Holdings Ltd | 9.00
Qingdao Fullrun Tyre Corp. Ltd | Hangzhou Zhongce Rubber Co., Ltd | 9.00
Qingdao Fullrun Tyre Corp. Ltd | Qingdao Yellow Sea Rubber Co., Ltd | 9.00
Qingdao Fullrun Tyre Corp. Ltd | Qingdao Doublestar Tire Industrial Co., Ltd | 9.00
Qingdao Fullrun Tyre Corp. Ltd | Shandong Xingyuan International Trading Co., Ltd | 9.00
Qingdao Ge Rui Da Rubber Co., Ltd | Qingdao Ge Rui Da Rubber Co., Ltd | 9.00
Qingdao Honghua Tyre Factory | Qingdao Honghua Tyre Factory | 9.00
Qingdao Jinhaoyang International Co., Ltd | Double Coin Holdings Ltd | 9.00
Qingdao Jinhaoyang International Co., Ltd | Qingdao Fudong Tyre Co., Ltd | 9.00
Qingdao Jinhaoyang International Co., Ltd | Shaanxi Yanchang Petroleum Group Rubber Co., Ltd | 9.00
Qingdao Jinhaoyang International Co., Ltd | Zhucheng Guoxin Rubber Co., Ltd | 9.00
Qingdao Keter International Co., Ltd | Beijing Landy Tire & Tech Co., Ltd | 9.00
Qingdao Keter International Co., Ltd | Chaoyang Long March Tyre Co., Ltd | 9.00
Qingdao Keter International Co., Ltd | Chonche Auto Double Happiness Tyre Corp. Ltd | 9.00
Qingdao Keter International Co., Ltd | Deruibo Tire Co., Ltd | 9.00
Qingdao Keter International Co., Ltd | Qingdao Doublestar Tire Industrial Co., Ltd | 9.00
Qingdao Keter International Co., Ltd | Shandong Huasheng Rubber Co., Ltd | 9.00
Qingdao Keter International Co., Ltd | Shandong Huge Rubber Co., Ltd | 9.00
Qingdao Keter International Co., Ltd | Shandong Kaixuan Rubber Co., Ltd | 9.00
Qingdao Lakesea Tyre Co., Ltd | Chaoyang Long March Tyre Co., Ltd | 9.00
Qingdao Lakesea Tyre Co., Ltd | Chonche Auto Double Happiness Tyre Corp. Ltd | 9.00
Qingdao Lakesea Tyre Co., Ltd | Doublestar Dongfeng Tyre Co., Ltd | 9.00
Qingdao Lakesea Tyre Co., Ltd | Qingdao Doublestar Tire Industrial Co., Ltd | 9.00
Qingdao Lakesea Tyre Co., Ltd | Qingdao Yellow Sea Rubber Co., Ltd | 9.00
Qingdao Lakesea Tyre Co., Ltd | Shandong Kaixuan Rubber Co., Ltd | 9.00
Qingdao Lakesea Tyre Co., Ltd | Shandong Xingyuan International Trading Co., Ltd | 9.00
Qingdao Lakesea Tyre Co., Ltd | Shandong Yinbao Tyre Group Co., Ltd | 9.00
Qingdao Lakesea Tyre Co., Ltd | Sichuan Kalevei Technology Co., Ltd | 9.00
Qingdao Milestone Tyres Co., Limited | Shandong Hugerubber Co., Ltd | 9.00
Qingdao Milestone Tyres Co., Limited | Xingyuan Tire Group Co., Ltd | 9.00
Qingdao Nama Industrial Co., Ltd | Chaoyang Long March Tyre Co., Ltd | 9.00
Qingdao Nama Industrial Co., Ltd | China National Tyre And Rubber Guilin Co., Ltd | 9.00
Qingdao Nama Industrial Co., Ltd | Ningxia Shenzhou Tire Co., Ltd | 9.00
Qingdao Nama Industrial Co., Ltd | Qingdao Doublestar Tire Industrial Co., Ltd | 9.00
Qingdao Nama Industrial Co., Ltd | Shandong Hawk International Rubber Industry Co., Ltd | 9.00
Qingdao Nama Industrial Co., Ltd | Shandong Hengfeng Rubber & Plastic Co., Ltd | 9.00
Qingdao Nama Industrial Co., Ltd | Shandong Hengyu Science & Technology Co., Ltd | 9.00
Qingdao Nama Industrial Co., Ltd | Shandong Huasheng Rubber Co., Ltd | 9.00
Qingdao Nama Industrial Co., Ltd | Shandong Kaixuan Rubber Co., Ltd | 9.00
Qingdao Nama Industrial Co., Ltd | Shandong Wanda Boto Tyre Co., Ltd | 9.00
Qingdao Nama Industrial Co., Ltd | Shandong Wanshine Tyre Co., Ltd | 9.00
Qingdao Odyking Tyre Co., Ltd | Weifang Shunfuchang Rubber And Plastic Products Co., Ltd | 9.00
Qingdao Qianzhen Tyre Co., Ltd | Qingdao Qianzhen Tyre Co., Ltd | 9.00
Qingdao Qizhou Rubber Co., Ltd | Qingdao Qizhou Rubber Co., Ltd | 9.00
Qingdao Rhino International Co., Ltd | Dongying JinZheng Tyre Co., Ltd | 9.00
Qingdao Rhino International Co., Ltd | Qingdao Aonuo Group | 9.00
Qingdao Rhino International Co., Ltd | Shandong Jinwangda Tire Co., Ltd | 9.00
Qingdao Rhino International Co., Ltd | Weihai Ping'an Tyre Co., Ltd | 9.00
Qingdao Taihao Tyre Co., Ltd | Qingdao Taihao Tyre Co., Ltd | 9.00
Qingdao Tanco Tire Industrial & Commercial Co., Ltd | Hebei Tianrui Rubber Co., Ltd | 9.00
Qingdao Tanco Tire Industrial & Commercial Co., Ltd | Shandong Hawk International Rubber Co., Ltd | 9.00
Qingdao Tanco Tire Industrial & Commercial Co., Ltd | Xingyuan Tires Group | 9.00
Qingdao Yellow Sea Rubber Co., Ltd | Qingdao Yellow Sea Rubber Co., Ltd | 9.00
Qingdao Yongdao International Trade Co., Ltd | Aeolus Tyre Co., Ltd | 9.00
Qingdao Yongdao International Trade Co., Ltd | Bayi Rubber Co., Ltd | 9.00
Qingdao Yongdao International Trade Co., Ltd | Chonche Auto Double Happiness Tyre Corp. Ltd | 9.00
Qingdao Yongdao International Trade Co., Ltd | Double Coin Holdings Ltd | 9.00
Qingdao Yongdao International Trade Co., Ltd | Guizhou Tyre Co., Ltd | 9.00
Qingdao Yongdao International Trade Co., Ltd | Hangzhou Zhongce Rubber Co., Ltd | 9.00
Qingdao Yongdao International Trade Co., Ltd | Qingdao Doublestar Tire Industrial Co., Ltd | 9.00
Qingdao Yongdao International Trade Co., Ltd | Shandong Haohua Tire Co., Ltd | 9.00
Qingdao Yongdao International Trade Co., Ltd | Shandong Hawk International Rubber Industry Co., Ltd | 9.00
Qingdao Yongdao International Trade Co., Ltd | Shandong Hengfeng Rubber and Plastic Co., Ltd | 9.00
Qingdao Yongdao International Trade Co., Ltd | Shandong Hengyu Science & Technology Co., Ltd | 9.00
Qingdao Yongdao International Trade Co., Ltd | Shandong Huasheng Rubber Co., Ltd | 9.00
Qingdao Yongdao International Trade Co., Ltd | Shandong Kaixuan Rubber Co., Ltd | 9.00
Qingdao Yongdao International Trade Co., Ltd | Shandong Wosen Rubber Co., Ltd | 9.00
Qingdao Yongdao International Trade Co., Ltd | Shandong Yongtai Group Co., Ltd | 9.00
Qingdao Yongdao International Trade Co., Ltd | Shengtai Group Co., Ltd | 9.00
Qingdao Yongdao International Trade Co., Ltd | South China Tire & Rubber Co., Ltd | 9.00
Qingdao Yongdao International Trade Co., Ltd | Weifang Goldshield Tire Co., Ltd | 9.00
Qingdao Yongdao International Trade Co., Ltd | Weifang Shunfuchang Rubber & Plastic Products Co., Ltd | 9.00
Qingdao Yongdao International Trade Co., Ltd | Xingyuan Tire Group Co., Ltd | 9.00
Rodeo Tire Ltd | Shandong Province Sanli Tire Manufactured Co., Ltd | 9.00
Rodeo Tire Ltd | Sichuan Tyre & Rubber Co., Ltd | 9.00
Rover Tire Co., Ltd | Aeolus Tyre Co., Ltd | 9.00
Rover Tire Co., Ltd | Dongying Fangxing Rubber Co., Ltd | 9.00
Rover Tire Co., Ltd | Double Coin Holdings Ltd | 9.00
Rover Tire Co., Ltd | Qingdao Doublestar Tire Industrial Co., Ltd | 9.00
Rover Tire Co., Ltd | Shandong Hengyu Science & Technology Co., Ltd | 9.00
Rover Tire Co., Ltd | Shandong Huasheng Rubber Co., Ltd | 9.00
Rover Tire Co., Ltd | Shandong Kaixuan Rubber Co., Ltd | 9.00
Rover Tire Co., Ltd | Shandong Longyue Rubber Co., Ltd | 9.00
Rover Tire Co., Ltd | Shandong Yongsheng Rubber Group Co., Ltd | 9.00
Rover Tire Co., Ltd | Wanli Group Trade Limited | 9.00
Rover Tire Co., Ltd | Zhongce Rubber Group Company Limited | 9.00
Sailun Jinyu Group Co., Ltd | Sailun Jinyu Group Co., Ltd | 9.00
Sailun Jinyu Group Co., Ltd | Shenyang Peace Radial Tyre Manufacturing Co., Ltd | 9.00
Shandong Anchi Tyres Co., Ltd | Shandong Anchi Tyres Co., Ltd | 9.00
Shandong Haohua Tire Co., Ltd | Shandong Haohua Tire Co., Ltd | 9.00
Shandong Haoyu Rubber Co., Ltd | Shandong Haoyu Rubber Co., Ltd | 9.00
Shandong Hawk International Rubber Industry Co., Ltd | Shandong Hawk International Rubber Industry Co., Ltd | 9.00
Shandong Hengfeng Rubber & Plastic Co., Ltd | Shandong Hengfeng Rubber & Plastic Co., Ltd | 9.00
Shandong Hengyu Science & Technology Co., Ltd | Shandong Hengyu Science & Technology Co., Ltd | 9.00
Shandong Hengyu Science & Technology Co., Ltd | Shandong Hengyu Rubber Co., Ltd | 9.00
Shandong Homerun Tires Co., Ltd | Good Friend Tyre Co., Ltd | 9.00
Shandong Homerun Tires Co., Ltd | Shandong Kaixuan Rubber Co., Ltd | 9.00
Shandong Homerun Tires Co., Ltd | Shandong Wosen Rubber Co., Ltd | 9.00
Shandong Homerun Tires Co., Ltd | Shandong Yongsheng Rubber Group Co., Ltd | 9.00
Shandong Homerun Tires Co., Ltd | Weifang Shunfuchang Rubber and Plastic Products Co., Ltd | 9.00
Shandong Huasheng Rubber Co., Ltd | Shandong Huasheng Rubber Co., Ltd | 9.00
Shandong Hugerubber Co., Ltd | Shandong Hugerubber Co., Ltd | 9.00
Shandong Huitong Tyre Co., Ltd | Shandong Huitong Tyre Co., Ltd | 9.00
Shandong Kaixuan Rubber Co., Ltd | Shandong Kaixuan Rubber Co., Ltd | 9.00
Shandong Linglong Tyre Co., Ltd | Shandong Linglong Tyre Co., Ltd | 9.00
Shandong O'Green Tyres Co., Ltd | Shandong O'Green Tyres Co., Ltd | 9.00
Shandong Province Sanli Tire Manufactured Co., Ltd | Shandong Province Sanli Tire Manufactured Co., Ltd | 9.00
Shandong Sangong Rubber Co., Ltd | Shandong Sangong Rubber Co., Ltd | 9.00
Shandong Transtone Tyre Co., Ltd | Shandong Haohua Tire Co., Ltd | 9.00
Shandong Transtone Tyre Co., Ltd | Shandong Hongyu Rubber Co., Ltd | 9.00
Shandong Transtone Tyre Co., Ltd | Shandong Kaixuan Rubber Co., Ltd | 9.00
Shandong Transtone Tyre Co., Ltd | Weifang Yuelong Rubber Co., Ltd | 9.00
Shandong Vheal Group Co., Ltd | Shandong Vheal Group Co., Ltd | 9.00
Shandong Wanda Boto Tyre Co., Ltd | Shandong Wanda Boto Tyre Co., Ltd | 9.00
Shandong Wanshine Tire Co., Ltd | Shandong Wanshine Tire Co., Ltd | 9.00
Shandong Xingyuan Tire Group Co., Ltd | Shandong Xingyuan Tire Group Co., Ltd | 9.00
Shandong Yinbao Tyre Group Co., Ltd | Shandong Yinbao Tyre Group Co., Ltd | 9.00
Shandong Yongfeng Tyres Co., Ltd | Shandong Yongfeng Tyres Co., Ltd | 9.00
Shandong Yongsheng Rubber Group Co., Ltd | Shandong Yongsheng Rubber Group Co., Ltd | 9.00
Shandong Yongtai Group Co., Ltd | Shandong Yongtai Group Co., Ltd | 9.00
Shanghai Durotyre International Trading Co., Ltd | Chaoyang Long March Tyre Co., Ltd | 9.00
Shanghai Durotyre International Trading Co., Ltd | Double Happiness Tyre Industrial Co., Ltd | 9.00
Shengtai Group Co., Ltd | Shengtai Group Co., Ltd | 9.00
Shengtai Group Co., Ltd | Shandong Zhushenghua Rubber Co., Ltd | 9.00
Shenzhen Zhongjin Import & Export Co., Ltd | Hefei Wanli Tire Co., Ltd | 9.00
Shenzhen Zhongjin Import & Export Co., Ltd | South China Tire & Rubber Co | 9.00
Shenzhen Zhongjin Import & Export Co., Ltd | Weifang Shunfuchang Rubber And Plastics Products Co., Ltd | 9.00
Shifeng Juxing Tire Co., Ltd | Shifeng Juxing Tire Co., Ltd | 9.00
Shuma Tyre International (Qingdao) Co., Ltd | Shandong Wanshine Tire Co., Ltd | 9.00
Sichuan Kalevei Technology Co., Ltd | Sichuan Kalevei Technology Co., Ltd | 9.00
Sinotyre International Group Co., Ltd | Dongying City Fangxing Rubber Co., Ltd | 9.00
Sinotyre International Group Co., Ltd | Shandong Hawk International Rubber Industry Co., Ltd | 9.00
Sportrak Tire Group Limited | Bayi Rubber Co., Ltd | 9.00
Sportrak Tire Group Limited | Shaanxi Yanchang Petroleum Group Rubber Co., Ltd | 9.00
Sportrak Tire Group Limited | Shandong Hawk International Rubber Industry Co., Ltd | 9.00
Tianjin Leviathan International Trade Co., Ltd | NDI Tire (Qingdao) Co., Ltd | 9.00
Tianjin Leviathan International Trade Co., Ltd | Qingdao Nama Industrial Co., Ltd | 9.00
Tianjin Leviathan International Trade Co., Ltd | Shandong Haohua Tire Co., Ltd | 9.00
Tianjin Leviathan International Trade Co., Ltd | Shandong Hawk International Rubber Industry Co., Ltd | 9.00
Tianjin Leviathan International Trade Co., Ltd | Xingyuan Tire Group Co., Ltd | 9.00
Top Tyre Industry Co., Limited | Shandong Hawk International Rubber Industry Co., Ltd | 9.00
Toyo Tire (Zhucheng) Co., Ltd | Toyo Tire (Zhucheng) Co., Ltd | 9.00
Triangle Tyre Co., Ltd | Triangle Tyre Co., Ltd | 9.00
Tyrechamp Group Co., Limited | South China Tire & Rubber Co., Ltd | 9.00
Tyrechamp Group Co., Limited | Zhongce Rubber Group Company Limited | 9.00
Wanli Group Trade Limited | South China Tire & Rubber Co., Ltd | 9.00
Weifang Shunfuchang Rubber And Plastic Products Co., Ltd | Weifang Shunfuchang Rubber And Plastic Products Co., Ltd | 9.00
Weihai Ping'an Tyre Co., Ltd | Weihai Ping'an Tyre Co., Ltd | 9.00
Weihai Zhongwei Rubber Co., Ltd | Weihai Zhongwei Rubber Co., Ltd | 9.00
Wendeng Sanfeng Tyre Co., Ltd | Wendeng Sanfeng Tyre Co., Ltd | 9.00
Xuzhou Xugong Tyres Co., Ltd | Xuzhou Xugong Tyres Co., Ltd | 9.00
Xuzhou Xugong Tyres Co., Ltd | Armour Rubber Company Ltd | 9.00
Yokohama Rubber Co., Ltd | Suzhou Yokohama Tire Co., Ltd | 9.00
Yongsheng Group Co., Ltd | Shandong Yongsheng Rubber Group Co., Ltd | 9.00
Zhongce Rubber Group Co., Ltd | Zhongce Rubber Group Co., Ltd | 9.00
Zhucheng Guoxin Rubber Co., Ltd | Zhucheng Guoxin Rubber Co., Ltd | 9.00
PRC-Wide Entity |  | 22.57

As detailed in the Issues and Decision Memorandum, Double Coin Holdings Ltd., a mandatory respondent in this investigation, did not demonstrate that it was entitled to a separate rate.⁹ Accordingly, we consider this company to be part of the PRC-wide entity.

⁹ See Issues and Decision Memorandum at Comments 2 through 7.

Suspension of Liquidation

In accordance with sections 735(c)(4)(A) of the Act, because we continue to find that critical circumstances exist, we will direct U.S. Customs and Border Protection (CBP) to suspend liquidation of all entries of truck and bus tires from the PRC, as described in Appendix I, that were entered, or withdrawn from warehouse, for consumption on or after June 8, 2016, which is 90 days prior to the date of publication of the Preliminary Determinations, and to require a cash deposit for such entries.

Pursuant to 19 CFR 351.205(d), upon the publication of this notice, the Department will instruct CBP to require a cash deposit ¹⁰ equal to the weighted-average amount by which the normal value exceeds U.S. price as follows: (1) The cash deposit rate for the exporter/producer combinations listed in the table above will be the rate identified in the table; (2) for all combinations of PRC exporters/producers of merchandise under consideration that have not received their own separate rate above, the cash-deposit rate will be the cash deposit rate established for the PRC-wide entity; and (3) for all non-PRC exporters of merchandise under consideration which have not received their own separate rate above, the cash-deposit rate will be the cash deposit rate applicable to the PRC exporter/producer combination that supplied that non-PRC exporter. These suspension of liquidation instructions will remain in effect until further notice.

¹⁰ See Modification of Regulations Regarding the Practice of Accepting Bonds During the Provisional Measures Period in Antidumping and Countervailing Duty Investigations, 76 FR 61042 (October 3, 2011).

If the U.S. International Trade Commission (ITC) makes an affirmative final determination,¹¹ we will adjust the cash deposit rates by deducting applicable domestic pass-through and export subsidies rates from the final margins. With respect to PCT, the non-selected respondents eligible for a separate rate, and the PRC-wide entity, the applicable domestic pass-through subsidies and export subsidies respectively constitute 16.58 percent ¹² and 11.01 percent ¹³ of the final calculated countervailing duty rate in the concurrent countervailing duty investigation. Thus, if the ITC makes an affirmative final determination, we will offset the rate of 9.00 percent for PCT and the non-selected respondents eligible for a separate rate and the rate of 22.57 percent for the PRC-wide entity by the countervailing duty rate attributable to domestic pass-through subsidies and export subsidies, i.e., 27.59 percent, to calculate the cash deposit rate for this investigation. Accordingly, the cash deposit rates will be zero percent for PCT, the non-selected respondents eligible for a separate rate, and the PRC-wide entity.

¹¹ See the International Trade Commission Notification section, infra.

¹² See the Memorandum to the File entitled, “Truck and Bus Tires from the People's Republic of China: Final Double Remedy Memorandum,” dated concurrently with this notice (Final Double Remedy Memorandum).

¹³ The Department determined that Export Buyer's Credit from State-Owned Banks and Export Seller's Credit from State-Owned Banks were export specific and, from these programs, Double Coin Holdings Ltd. and Guizhou Tyre Co., Ltd., received countervailable subsidies. See the signed Federal Register notice of Truck and Bus Tires from the People's Republic of China: Final Affirmative Countervailing Duty Determination, Final Affirmative Critical Circumstances Determination, in Part, and accompanying Issues and Decision Memorandum for the Final Determination in the Countervailing Duty Investigation of Truck and Bus Tires from the People's Republic of China; and Final Affirmative Determination of Critical Circumstances, in Part, issued on January 19, 2017, at 20. See also Final Double Remedy Memorandum at Attachment 1 for our calculation of the export subsidies rate.

Disclosure

We intend to disclose the calculations performed to parties in this proceeding within five days after public announcement of the final determination in accordance with 19 CFR 351.224(b).

International Trade Commission Notification

In accordance with section 735(d) of the Act, we will notify the ITC of our final affirmative determination of sales at LTFV. Because the final determination in this proceeding is affirmative, in accordance with section 735(b)(2) of the Act, the ITC will make its final determination as to whether the domestic industry in the United States is materially injured, or threatened with material injury, by reason of imports of subject merchandise from the PRC no later than 45 days after our final determination. If the ITC determines that such injury does not exist, this proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Notification Regarding Administrative Protective Order

This notice will serve as a reminder to the parties subject to administrative protective order (APO) of their responsibility concerning the disposition of propriety information disclosed under APO in accordance with 19 CFR 351.305. Timely written notification of return or destruction of APO materials or conversion to judicial protective order is hereby requested. Failure to comply with the regulations and terms of an APO is a sanctionable violation.

This determination is issued and published in accordance with sections 735(d) and 777(i)(1) of the Act and 19 CFR 351.210(c).

Dated: January 19, 2017.
Ronald K. Lorentzen,
Acting Assistant Secretary for Enforcement and Compliance.

Appendix I

Scope of the Investigation

The scope of the investigation covers truck and bus tires. Truck and bus tires are new pneumatic tires, of rubber, with a truck or bus size designation. Truck and bus tires covered by this investigation may be tube-type, tubeless, radial, or non-radial.

Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires; and

HC—Identifies a 17.5 inch rim diameter code for use on low platform trailers.

All tires with a “TR” or “HC” suffix in their size designations are covered by this investigation regardless of their intended use.

In addition, all tires that lack one of the above suffix markings are included in the scope, regardless of their intended use, as long as the tire is of a size that is among the numerical size designations listed in the “Truck-Bus” section of the Tire and Rim Association Year Book, as updated annually, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope of this investigation are the following types of tires: (1) Pneumatic tires, of rubber, that are not new, including recycled and retreaded tires; (2) non-pneumatic tires, such as solid rubber tires; and (3) tires that exhibit each of the following physical characteristics: (a) The designation “MH” is molded into the tire's sidewall as part of the size designation; (b) the tire incorporates a warning, prominently molded on the sidewall, that the tire is for “Mobile Home Use Only;” and (c) the tire is of bias construction as evidenced by the fact that the construction code included in the size designation molded into the tire's sidewall is not the letter “R.”

The subject merchandise is currently classifiable under Harmonized Tariff Schedule of the United States (HTSUS) subheadings: 4011.20.1015 and 4011.20.5020. Tires meeting the scope description may also enter under the following HTSUS subheadings: 4011.69.0020, 4011.69.0090, 4011.70.00, 4011.90.80, 4011.99.4520, 4011.99.4590, 4011.99.8520, 4011.99.8590, 8708.70.4530, 8708.70.6030, 8708.70.6060, and 8716.90.5059.¹⁴

¹⁴ On August 26, 2016, the Department included HTSUS subheadings 4011.69.0020, 4011.69.0090, and 8716.90.5059 to the case reference files, pursuant to requests by CBP and the petitioner. See Memorandum to the File entitled, “Requests from Customs and Border Protection and the Petitioner to Update the ACE Case Reference File,” dated August 26, 2016. On January 19, 2017, the Department included HTSUS subheadings 4011.70.00 and 4011.90.80 to the case reference files, pursuant to requests by CBP. See Memorandum to the File entitled, “Requests from Customs and Border Protection to Update the ACE Case Reference File,” dated January 19, 2017.

While HTSUS subheadings are provided for convenience and for customs purposes, the written description of the subject merchandise is dispositive.

Appendix II

List of Topics Discussed in the Issues and Decision Memorandum

I. Summary

II. Background

III. Company Abbreviations

IV. Other Abbreviations

V. Period of Investigation

VI. Scope Comments

VII. Scope of the Investigation

VIII. Critical Circumstances

IX. Surrogate Country

X. Separate Rates

XI. PRC-Wide Rate

XII. Margin Calculations

XIII. Discussion of the Issues

a. Separate Rate Eligibility Issues

b. Combination Rates

c. PCT Issues

d. Preliminary Cash Deposit Rates

e. Critical Circumstances

f. Scope Issues

XIV. Recommendation

[FR Doc. 2017-01861 Filed 1-26-17; 8:45 am]

BILLING CODE 3510-DS-P